DEPARTMENT OF ENERGY

Federal Energy Regulatory Commission

Combined Notice of Filings #1

Take notice that the Commission received the following electric corporate filings:

Docket Numbers: EC23-135-000.

Applicants: EGCO Compass II, LLC, Dighton Power, LLC, Marco DM Holdings, L.L.C., Marcus Hook Energy, L.P., Milford Power, LLC.

Description: Joint Application for Authorization Under Section 203 of the Federal Power Act of EGCO Compass II, LLC, et al.

Filed Date: 9/26/23.

Accession Number: 20230926-5090.

Comment Date: 5 p.m. ET 10/17/23.

Take notice that the Commission received the following exempt wholesale generator filings:

Docket Numbers: EG23-301-000.

Applicants: Midland Wind, LLC.

Description: Midland Wind, LLC submits Notice of Self-Certification of Exempt Wholesale Generator Status.

Filed Date: 9/26/23.

Accession Number: 20230926-5116.

Comment Date: 5 p.m. ET 10/17/23.

Docket Numbers: EG23-302-000.

Applicants: Sierra Estrella Energy Storage LLC.

Description: Sierra Estrella Energy Storage LLC submits Notice of Self-Certification of Exempt Wholesale Generator Status.

Filed Date: 9/26/23.

Accession Number: 20230926-5132.

Comment Date: 5 p.m. ET 10/17/23.

Docket Numbers: EG23-303-000.

Applicants: Superstition Energy Storage LLC.

Description: Superstition Energy Storage LLC submits Notice of Self-Certification of Exempt Wholesale Generator Status.

Filed Date: 9/26/23.

Accession Number: 20230926-5134.

Comment Date: 5 p.m. ET 10/17/23.

Take notice that the Commission received the following Complaints and Compliance filings in EL Dockets:

Docket Numbers: EL23-100-000; QF86-765-006.

Applicants: THE DEXTER CORP., Algonquin Power Windsor Locks LLC.

Description: Algonquin Power Windsor Locks LLC submits Petition for Declaratory Order.

Filed Date: 9/20/23.

Accession Number: 20230920-5160.

Comment Date: 5 p.m. ET 10/18/23.

Docket Numbers: EL23-101-000.

Applicants: Mid-Atlantic Offshore Development, LLC.

Description: Petition for Declaratory Order of Mid-Atlantic Offshore Development, LLC.

Filed Date: 9/21/23.

Accession Number: 20230921-5184.

Comment Date: 5 p.m. ET 10/23/23.

Take notice that the Commission received the following electric rate filings:

Docket Numbers: ER23-1598-002.

Applicants: Versant Power.

Description: Versant Power submits a Joint Offer of Settlement between itself, the Maine Public Utilities Commission and the Maine Office of the Public Advocate.

Filed Date: 9/22/23.

Accession Number: 20230922-5200.

Comment Date: 5 p.m. ET 10/13/23.

Docket Numbers: ER23-2929-000.

Applicants: Amcor Storage LLC.

Description: Baseline eTariff Filing: Baseline new to be effective 1/1/2024.

Filed Date: 9/26/23.

Accession Number: 20230926-5133.

Comment Date: 5 p.m. ET 10/17/23.

Take notice that the Commission received the following electric reliability filings

Docket Numbers: RD23-6-000.

Applicants: North American Electric Reliability Corporation.

Description: North American Electric Reliability Corporation submits Petition for Approval of Proposed Reliability Standards re IRO-010-5 and TOP-003-6.1.

Filed Date: 9/21/23.

Accession Number: 20230921-5183.

Comment Date: 5 p.m. ET 10/26/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 26, 2023.
Debbie-Anne A. Reese,
Deputy Secretary.

[FR Doc. 2023-21691 Filed 9-29-23; 8:45 am]

BILLING CODE 6717-01-P